DEPARTMENT OF THE TREASURY

Submission for OMB Review; Comment Request

October 9, 2008.

The Department of Treasury will submit the following public information collection requirement(s) to OMB for review and clearance under the Paperwork Reduction Act of 1995, Public Law 104-13 on or after the publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 14, 2008 to be assured of consideration.

Federal Consulting Group

OMB Number: 1505-0186.

Type of Review: Extension.

Title: Customer Satisfaction Measure of Government Websites.

Description: The objectives of surveying citizen users of federal agency websites are to: (1) Provide information for improving the quality of and satisfaction with agency websites: (2) ensure continuous assessment and improvement capabilities; (3) benchmark results against other agencies and private companies; (4) determine how different types of changes to the websites will impact future citizen behaviors; and (5) make the agencies part of a quarterly E-Government customer satisfaction benchmark and annual index for all measured Federal Government activities.

Respondents: Individuals and households; Business or other-for-profit; Not-for-profit institutions; Farms, Federal Government and State, Local or Tribal Govt.

Estimated Number of Respondents: 1,000,000.

Estimated Total Reporting Burden: 41,667 hours.

Clearance Officer: Ron Oberbillig (202) 504-3656, Federal Consulting Group, 1799 9th Street NW., Washington, DC 20239.

OMB Reviewer: Kimberly Nelson (202) 395-3787, Office of Management and Budget, Room 10235, New Executive Office Building, Washington, DC 20503.

Robert Dahl,
Treasury PRA Clearance Officer.

[FR Doc. E8-24532 Filed 10-14-08; 8:45 am]

BILLING CODE 4810-25-P